DEPARTMENT OF LABOR

Employment and Training Administration

[TA-W-52,992]

Planto Furniture Manufacturing Co., Inc., San Antonio, TX, Notice of Termination of Investigation

Pursuant to section 221 of the Trade Act of 1974, as amended, an investigation was initiated on September 25, 2003 in response to a petition filed by a company official on behalf of workers at Planto Furniture Manufacturing Company, Inc., San Antonio, Texas.

The petitioner has requested that the petition be withdrawn. Consequently, the investigation has been terminated.

Signed at Washington, DC this 14th day of October, 2003.
Elliott S. Kushner,
Certifying Officer, Division of Trade Adjustment Assistance.

[FR Doc. 03-29113 Filed 11-20-03; 8:45 am]

BILLING CODE 4510-30-P